BUREAU OF CONSUMER FINANCIAL PROTECTION

[Docket No: CFPB-2013-0028]

Proposed Collection; Comment Request

AGENCY: Bureau of Consumer Financial Protection.

ACTION: Notice and request for comment.

SUMMARY: The Bureau of Consumer Financial Protection (Bureau), as part of its continuing effort to reduce paperwork and respondent burden, invites the general public and other Federal agencies to take this opportunity to comment on proposed information collections, as required by the Paperwork Reduction Act of 1995, Public Law 104-13. Currently, the Bureau is soliciting comments concerning proposed information collection requirements relating to the Equal Access to Justice Act.

DATES: Written comments are encouraged and must be received on or before October 22, 2013 to be assured of consideration.

ADDRESSES: You may submit comments, identified by the title of the information collection, OMB Control Number (see below), and docket number (see above), by any of the following methods:

• Electronic: http://www.regulations.gov. Follow the instructions for submitting comments.

• Mail/Hand Delivery/Courier: Consumer Financial Protection Bureau (Attention: PRA Office), 1700 G Street NW., Washington, DC 20552.

Please note that comments submitted by fax or email and those submitted after the comment period will not be accepted. In general, all comments received will be posted without change to regulations.gov, including any personal information provided. Sensitive personal information, such as account numbers or social security numbers, should not be included.

FOR FURTHER INFORMATION CONTACT: Documentation prepared in support of this information collection request is available at www.regulations.gov. Requests for additional information should be directed to the Bureau, (Attention: PRA Office), 1700 G Street NW., Washington, DC 20552, (202) 435-9575, or email: PRA@cfpb.gov. Please do not submit comments to this mailbox.

SUPPLEMENTARY INFORMATION:

Title of the Collection: Equal Access to Justice Act.

Office of Management and Budget (OMB) Control Number: 3170-XXXX.

Type of Review: New collection of information (request for new OMB control number).

Affected Public: Individuals or households; business or other for-profit; and not-for-profit institutions.

Estimated Number of Respondents: 3.

Estimated Total Annual Burden Hours: 15.

Abstract: The Equal Access to Justice Act (the Act) provides for payment of fees and expenses to eligible parties who have prevailed against the Bureau in certain administrative proceedings. In order to obtain an award, the statute and associated regulations (12 CFR part 1071) require the filing of an application that shows that the party is a prevailing party and is eligible to receive an award under the Act. The Bureau regulations implementing the Act require the collection of information related to the application for an award in 12 CFR part 1071, Subparts B, C.

On June 29, 2012, the Bureau published in the Federal Register an interim final rule implementing the Act. 77 FR 39117. At that time, the Bureau adopted the position that the rule did not contain any information collection requirements that required the approval of OMB under the Paperwork Reduction Act (the “PRA”), 44 U.S.C. 3501 et seq. The Bureau has since changed its interpretation and now adopts the position that the rule does contain information collection requirements that require the approval of OMB under the PRA and invites the general public and other Federal agencies to comment on the proposed information collections.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Dated: August 20, 2013.
Matthew Burton,
Acting Chief Information Officer, Bureau of Consumer Financial Protection.

[FR Doc. 2013-20650 Filed 8-22-13; 8:45 am]

BILLING CODE 4810-AM-P